DEPARTMENT OF ENERGY

Federal Energy Regulatory Commission

[Docket No. EC01-153-000]

Nevada Sun-Peak Limited Partnership and Nevada Power Holdings II, LLC; Notice of Filing

September 21, 2001.

Take notice that on September 12, 2001, Nevada Sun-Peak Limited Partnership and Nevada Power Holdings II, LLC (Applicants) filed with the Federal Energy Regulatory Commission (Commission), a joint application pursuant to Section 203 of the Federal Power Act for authorization of a disposition of jurisdictional facilities whereby Applicants request approval of the transfer of a 49% general partnership interest and a 1% limited partnership interest in Nevada Sun-Peak Limited Partnership from Quartz-Peak Energy Company to Nevada Power Holdings II, LLC.

Nevada Sun-Peak Limited Partnership is engaged exclusively in the business of owning a 222 MW peaking facility located in Las Vegas, Nevada (the Facility), and selling its capacity at wholesale to Nevada Power Company. The Applicants request privileged treatment by the Commission of the Partnership Interest Purchase Agreement that governs the proposed transfer.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before October 3, 2001. Protests will be considered by the Commission to determine the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-24142 Filed 9-26-01; 8:45 am]

BILLING CODE 6717-01-P